DEPARTMENT OF ENERGY

Federal Energy Regulatory Commission

Combined Notice of Filings

Take notice that the Commission has received the following Natural Gas Pipeline Rate and Refund Report filings:

Filings Instituting Proceedings

Docket Numbers: RP23-274-000.

Applicants: MoGas Pipeline LLC.

Description: § 4(d) Rate Filing: MoGas Pipeline LLC Ozark Gas NRA Filing to be effective 1/1/2023.

Filed Date: 12/9/22.

Accession Number: 20221209-5149.

Comment Date: 5 p.m. ET 12/21/22.

Docket Numbers: RP23-275-000.

Applicants: Rockies Express Pipeline LLC.

Description: § 4(d) Rate Filing: REX 2022-12-09 Negotiated Rate Agreements and Amendments to be effective 12/9/2022.

Filed Date: 12/9/22.

Accession Number: 20221209-5176.

Comment Date: 5 p.m. ET 12/21/22.

Docket Numbers: RP23-276-000.

Applicants: Tallgrass Interstate Gas Transmission, LLC.

Description: § 4(d) Rate Filing: TIGT 2022-12-09 Negotiated Rate Agreement to be effective 12/10/2022.

Filed Date: 12/9/22.

Accession Number: 20221209-5185.

Comment Date: 5 p.m. ET 12/21/22.

Docket Numbers: RP23-277-000.

Applicants: El Paso Natural Gas Company, L.L.C.

Description: § 4(d) Rate Filing: Negotiated Rate Agreement Update (Mieco) to be effective 12/9/2022.

Filed Date: 12/9/22.

Accession Number: 20221209-5187.

Comment Date: 5 p.m. ET 12/21/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2022.
Debbie-Anne A. Reese,
Deputy Secretary.

[FR Doc. 2022-27337 Filed 12-15-22; 8:45 am]

BILLING CODE 6717-01-P